EXPORT-IMPORT BANK OF THE UNITED STATES

Notice of Open Meeting of the Board of Directors of the Export-Import Bank of the United States

Time and Place: Tuesday, November 26, 2002, at 9:30 am. The meeting will be held at Export-Import Bank in Room 1143, 811 Vermont Avenue., NW., Washington, DC 20571.

Open Agenda Items: Draft Revised Economic Impact Procedures, Annual Review of the Jordanian Framework Agreement.

Public Participation: The meeting, or a portion thereof, will be open to public observation.

FOR FURTHER INFORMATION CONTACT: Office of the Secretary, 811 Vermont Avenue, NW., Washington, DC 20571, (Telephone No. (202) 565 3857 or 3336).

Peter B. Saba,
General Counsel.

[FR Doc. 02-29787 Filed 11-19-02; 2:12 pm]

BILLING CODE 6690-01-M